DEPARTMENT OF COMMERCE
Bureau of the Census
[Docket Number 030829216-4023-02]
RIN 0607-AA40
Annual Trade Survey

AGENCY:
Bureau of the Census, Commerce.

ACTION:
Notice.

SUMMARY:
The Bureau of the Census (Census Bureau) is expanding the 2003 Annual Trade Survey (ATS) to include manufacturers' sales branches and offices (MSBO). The Census Bureau makes this expansion at the request of the Bureau of Economic Analysis (BEA). The BEA considers this information vital to its accurate measurement of sales and inventories for wholesale trade. These data are important inputs to BEA's preparation of National Income and Product accounts and its annual input-output tables.

DATES:
The Census Bureau adopts the expanded ATS as of January 30, 2004.

FOR FURTHER INFORMATION CONTACT:

John Trimble, Chief, Annual Trade and Special Projects Branch, Service Sector Statistics Division, at (301) 763-7223 or by e-mail at John Trimble@census.gov.

SUPPLEMENTARY INFORMATION:
The Census Bureau is authorized to take surveys necessary to furnish current data on the subjects covered by the major censuses authorized by Title 13, United States Code (U.S.C.), sections 182, 224, and 225. The expanded ATS will provide continuing and timely national statistical data on MSBO for the period between the five year economic censuses. These data ensure a sound statistical basis for the formation of policy by various government agencies. They also apply to a variety of public and business needs. These data are not available publicly on a timely basis from nongovernmental or other governmental sources.

On September 15, 2003 (68 FR 53959), the Census Bureau published in the Federal Register a notice and request for comment on the expansion of the ATS. We did not receive any comments on that notice. Accordingly, the Census Bureau is adopting without change, its proposal to include manufacturers' sales and offices in the 2003 Annual Trade Survey.
The previous ATS collected data only for merchant wholesalers. This new, expanded survey includes a selected sample of firms and operating establishments primarily selling goods that they manufacture in the United States. These data will be a vital source for accurately measuring sales, inventories, and operating expenses for wholesale trade. The BEA has made repeated requests for this information. The expanded ATS covers approximately 90 percent of sales from the wholesale sector and over 99 percent of its inventories compared to about 58 percent of sales and 85 percent of inventories in the previous ATS sample.
Beginning with the survey year 2003, the goal is to maximize industry coverage within our available resources. In order to establish reporting arrangements and reduce respondent burden, we will mail report forms to a sample of firms on a company basis and contact them in person, as well as by phone and mail. We will mail a survey introduction letter followed by report forms to the firms covered by this survey and require the report forms to be returned thirty days after receipt. The report forms will request similar data items, but different forms are needed to accommodate both merchant wholesale and MSBO companies, as well as both large and small firms. Later, as necessary, additional mail follow-ups and telephone follow-ups will be conducted.
The primary users of these data will be federal, state, and local government agencies, including the Census Bureau, BEA, and Environmental Protection Agency. Other users will include business firms, academics, trade associations, and research and consulting organizations.
Rulemaking Requirements
Executive Order 12866
This rule has been determined to be not significant for purposes of Executive Order 12866.
Regulatory Flexibility Act
The Chief Counsel for Regulation of the Department of Commerce certified to the Chief Counsel for Advocacy of the Small Business Administration that this rule would not have a significant economic impact on a substantial number of small entities. The factual basis for this certification was published in the proposed rule. No comments were received regarding the economic impact of this rule. As a result, no final regulatory flexibility analysis was prepared.
Paperwork Reduction Act

Notwithstanding any other provision of law, no person is required to respond to, nor shall a person be subject to a penalty for failure to comply with, a collection of information subject to requirements of the Paperwork Reduction Act (PRA), unless that collection of information displays a current, valid Office of Management and Budget (OMB) control number. In accordance with the PRA (44 U.S.C. 3501 et seq.), OMB approved on January 9, 2004, with control number 0607-0195, the collection of all information associated with this rule. We estimate the number of additional respondents to be 1,600 and estimate an additional 713 annual burden hours with this expanded data collection. Also, we estimate that the time for the additional responses associated with this data collection will be approximately 27 minutes. We will furnish report forms to organizations included in the survey, and additional copies will be available on written request to the Director, U.S. Census Bureau, Washington, DC 20233-0101.

Dated: January 26, 2004.
Charles Louis Kincannon,
Director, Bureau of the Census.

[FR Doc. 04-1979 Filed 1-29-04; 8:45 am]
BILLING CODE 3510-07-P